DEPARTMENT OF AGRICULTURE

Forest Service

Missouri River Resource Advisory Committee

AGENCY: Forest Service, USDA.

ACTION: Notice of meeting.

SUMMARY: The Missouri River Resource Advisory Committee (RAC) will meet in Helena, Montana. The committee is authorized under the Secure Rural Schools and Community Self-Determination Act (the Act) and operates in compliance with the Federal Advisory Committee Act. The purpose of the committee is to improve collaborative relationships and to provide advice and recommendations to the Forest Service concerning projects and funding consistent with Title II of the Act. RAC information can be found at the following website: https://www.fs.usda.gov/hlcnf.

DATES: The meeting will be held on Tuesday, November 12, 2019, at 7:00 p.m.

All meetings are subject to cancellation. For the updated status of the meeting prior to attendance, please contact Dave Cunningham, RAC Coordinator, by phone at 406-727-8733 or via email at dave.cunningham@usda.gov.

ADDRESSES: The meeting will be held at the Helena-Lewis and Clark National Forest, Helena Supervisor's Office, Elk/Tizer Meeting Room, 2880 Skyway Drive, Helena, Montana 59602.

Written comments may be submitted as described under SUPPLEMENTARY INFORMATION. All comments, including names and addresses when provided, are placed in the record and available for public inspection and copying. The public may inspect comments received at the Helena-Lewis and Clark National Forest, Helena Supervisor's Office. Please call ahead at 406-727-8733 to facilitate entry into the building.

FOR FURTHER INFORMATION CONTACT: Dave Cunningham, RAC Coordinator, by phone at 406-727-8733 or via email at dave.cunningham@usda.gov.

Individuals who use telecommunication devices for the deaf (TDD) may call the Federal Information Relay Service (FIRS) at 1-800-877-8339 between 8:00 a.m. and 8:00 p.m., Eastern Standard Time, Monday through Friday.

SUPPLEMENTARY INFORMATION: The purpose of the meeting is to:

(1) Provide explanation of the provisions of the Federal Public Lands Recreation Enhancement Act (FLREA) provisions for Forest to retain a portion of fees collected at recreation fee sites and of the 2018 Farm Bill authorizing Forest Service SRS Title II RACs to review and make recommendations for Forest Service recreation fee sites,

(2) Review proposed fee changes for fee sites on the Rocky Mountain, Lincoln, Helena, and Townsend Ranger Districts of the Helena-Lewis and Clark National Forest, and

(3) Discuss the proposed fee changes followed by recommendations from the RAC regarding the proposed changes.

The meeting is open to the public. The agenda will include time for people to make oral statements of three minutes or less. Forest Service will attempt to accommodate as many attendees as possible; however, admittance will be limited to seating availability. Individuals wishing to make an oral statement should request in writing by Tuesday, November 5, 2019, to be scheduled on the agenda. Anyone who would like to bring related matters to the attention of the committee may file written statements with the committee before or after the meeting.

Written comments and requests for time to make oral comments must be sent to Dave Cunningham, RAC Coordinator, 1220 38th Street, Great Falls, Montana 59805; by email to dave.cunningham@usda.gov.

Meeting Accommodations: If you are a person requiring reasonable accommodation, please make requests in advance for sign language interpreting, assistive listening devices, or other reasonable accommodation. For access to the facility or proceedings, please contact Dave Cunningham, RAC Coordinator, by phone at 406-727-8733 or via email at dave.cunningham@usda.gov. All reasonable accommodation requests are managed on a case by case basis.

Dated: October 22, 2019.
Cikena Reid,
USDA Committee Management Officer.

[FR Doc. 2019-23723 Filed 10-30-19; 8:45 am]

BILLING CODE 3411-15-P